DEPARTMENT OF THE TREASURY

Submission for OMB Review; Comment Request

February 13, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 23, 2001, to be assured of consideration.

Bureau of the Public Debt (PD)

OMB Number: 1535-0096.

Form Number: PD F 1993.

Type of Review: Extension.

Title: Reinvestment Application.

Description: PD F 1993 is used to request proceeds of matured Series H Savings Bonds be invested in Series HH Savings Bonds.

Respondents: Individuals or households.

Estimated Number of Respondents: 20,000.

Estimated Burden Hours Per Respondent: 15 minutes.

Frequency of Response: On occasion.

Estimated Total Reporting Burden Hours: 5,000 hours.

Clearance Officer: Vicki S. Thorpe (304) 480-6553, Bureau of the Public Debt, 200 Third Street, Parkersburg, West VA 26106-1328.

OMB Reviewer: Alexander T. Hunt (202) 395-7860, Office of Management and Budget, Room 10226, New Executive Office Building, Washington, DC 20503.

Lois K. Holland,
Departmental Reports, Management Officer.

[FR Doc. 01-4177 Filed 2-20-01; 8:45 am]

BILLING CODE 4810-40-U